FEDERAL COMMUNICATIONS COMMISSION

47 CFR Part 64

[CG Docket Nos. 22-408, 03-123, and 13-24; FCC 24-81; FR ID 269113]

TRS Fund Support for Internet Protocol Captioned Telephone Service Compensation; Correction

AGENCY: Federal Communications Commission.

ACTION: Correcting amendment.

SUMMARY: This document corrects the final rule portion of Federal Register document published on September 4, 2024. This document inadvertently has an error in the ending year for the supplemental compensation for CA-assisted internet Protocol Captioned Telephone Service (IP CTS). This document corrects the final regulations.

DATES: Effective on December 27, 2024.

FOR FURTHER INFORMATION CONTACT: Michael Scott, Consumer and Governmental Affairs Bureau, (202) 418-1264, Michael.Scott@fcc.gov.

SUPPLEMENTARY INFORMATION: This document corrects the final rule document published at 89 FR 71848, September 4, 2024. It corrects the ending date for the per-minute Supplemental Compensation Rate for CA-assisted IP CTS in 47 CFR 64.641(c)(2) to June 30, 2029 from the erroneous June 30, 2027.

List of Subjects in 47 CFR Part 64

Individuals with disabilities, Telecommunications, Telephones.

Federal Communications Commission.
Marlene Dortch,
Secretary, Office of the Secretary.

Final Rules

Accordingly, 47 CFR part 64 is corrected by making the following correcting amendment:

PART 64 MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 255, 262, 276, 403(b)(2)(B), (c), 616, 620, 716, 1401-1473, unless otherwise noted; Pub. L. 115-141, Div. P, sec. 503, 132 Stat. 348, 1091; Pub. L. 117-338, 136 Stat. 6156.

Subpart F—Telecommunications Relay Services and Related Customer Premises Equipment for Persons With Disabilities

2. Amend § 64.641 by revising paragraph (c)(2)(i) to read as follows:

§ 64.641 Compensation for internet Protocol Captioned Telephone Service.

* * * * *

(c) * * *

(2) * * *

(i) For each succeeding TRS Fund Year through June 30, 2029, the per-minute Supplemental Compensation Rate for CA-assisted IP CTS shall be determined in accordance with the following equation:

Equation 2 to Paragraph (c)(2)(i)

LFY = LFY-1 * (1 + AFFY)

Where LFY is the CA-assisted Compensation Level for the new Fund Year, LFY-1 is the CA-assisted Compensation Level for the previous Fund Year, and AFFY is the Adjustment Factor for the new Fund Year, as defined by paragraph (b)(3) of this section.

* * * * *

[FR Doc. 2024-30498 Filed 12-26-24; 8:45 am]

BILLING CODE 6712-01-P